FARM CREDIT ADMINISTRATION

12 CFR Parts 612 and 614

RIN 3052-AB95

Standards of Conduct; Loan Policies and Operations

AGENCY: Farm Credit Administration (FCA).

ACTION: Confirmation of effective date; partial withdrawal.

SUMMARY: The FCA published a direct final rule, with opportunity for comment, amending parts 612 and 614 on June 30, 2000 (65 FR 40486). The rule rewrote part 612 of our Standards of Conduct regulations in plain language. The rule amended part 614 to correctly reference our Standard of Conduct regulations. The opportunity for comment expired on July 31, 2000. We received significant adverse comment on part 612. As a result we are withdrawing the revision of part 612 of the direct final rule. The amendment to part 614 will become effective in accordance with this document.

DATES: The regulation amending 12 CFR part 614 published on June 30, 2000 (65 FR 40486) is effective September 11, 2000. The regulation revising 12 CFR part 612 published on June 30, 2000 (65 FR 40486) is withdrawn September 11, 2000.

FOR FURTHER INFORMATION CONTACT:

Dale Aultman, Policy Analyst, Office of Policy and Analysis, Farm Credit Administration, McLean, VA 22102-5090, (703) 883-4498, TDD (703) 883-4444,

or

Howard Rubin, Attorney, Office of General Counsel, Farm Credit Administration, McLean, VA 22102-5090, (703) 883-4020, TDD (703) 883-4444.

SUPPLEMENTARY INFORMATION: Direct final rulemaking enables Federal agencies to quickly adopt noncontroversial regulations without the usual notice and comment period. On June 30, 2000, we notified you that this rule would become effective 30 days after publication in the Federal Register during which either or both Houses of Congress are in session unless we receive significant adverse comment by July 31, 2000. A significant adverse comment is one where a commenter explains why the rule would be inappropriate (including challenges to its underlying premise or approach), ineffective, or unacceptable. Our June 30, 2000 notice informed you that if we received a significant adverse comment about any amendment, paragraph, or section of this rule, we would withdraw that amendment, paragraph, or section, but adopt all other provisions as a final rule. We received significant adverse comments on several provisions of part 612 of the rule. The breadth of the comments makes it impossible to adopt the remaining provisions as a final rule. Therefore, part 612 of the rule will not become effective. The amendment to § 614.4440(f) in the direct final rule will take effect on September 11, 2000.

Dated: September 6, 2000.
Kelly Mikel Williams,
Secretary, Farm Credit Administration Board.

[FR Doc. 00-23268 Filed 9-8-00; 8:45 am]

BILLING CODE 6705-01-P